DEPARTMENT OF TRANSPORTATION

Federal Highway Administration

Notice of Final Federal Agency Actions on IH 30 from Cooper Street to SH 161, Including the IH 30/SH 360 Interchange, in Texas

AGENCY: Federal Highway Administration (FHWA), U.S. DOT.

ACTION: Notice of Limitation on Claims for Judicial Review of Actions by TxDOT and Federal Agencies.

SUMMARY: This notice announces actions taken by Texas Department of Transportation (TxDOT) and Federal agencies that are final within the meaning of 23 U.S.C. 139(l)(1). The actions relate to a proposed highway project making improvements to Interstate Highway (IH) 30 from Cooper Street to State Highway (SH) 161, in Tarrant County and Dallas County in the State of Texas. Those actions grant licenses, permits, and approvals for the project.

DATES: By this notice, TxDOT is advising the public of final agency actions subject to 23 U.S.C. 139(l)(1). A claim seeking judicial review of the Federal agency actions on the highway project will be barred unless the claim is filed on or before February 19, 2016. If the Federal law that authorizes judicial review of a claim provides a time period of less than 150 days for filing such claim, then that shorter time period still applies.

FOR FURTHER INFORMATION CONTACT: Mr. Carlos Swonke, Director, Environmental Affairs Division, Texas Department of Transportation, 125 East 11th Street, Austin, Texas 78701; telephone: 512-416-2734; email: carlos.swonke@txdot.gov. TxDOT's normal business hours are 8:00 a.m.-5:00 p.m., Monday through Friday.

SUPPLEMENTARY INFORMATION: Notice is hereby given that TxDOT and Federal agencies have taken final agency actions by issuing licenses, permits, and approvals for the following highway project in the State of Texas: IH 30 from Cooper Street to SH 161, including the IH 30/SH 360 interchange, in Tarrant County and Dallas County, Texas. The project will construct a fully directional, multi-level IH 30/SH 360 interchange providing direct-connecting ramps for all freeway-to-freeway traffic movements. The proposed interchange will require reconstructing the SH 360 main lanes from north of Avenue J to Road to Six Flags Street; widening the existing main lanes from Brown Boulevard/Avenue K to north of Avenue J; and reconstructing the one-way, continuous frontage roads along SH 360 within the project limits (approximately 1.6 miles). The proposed improvements to IH 30 will provide up to ten general-purpose lanes and auxiliary lanes from Cooper Street to SH 161 (approximately 5.0 miles). Two reversible managed lanes will be provided from Center Street to SH 161, tying into the existing two-lane reversible managed lane system in Dallas County. Selected main lane widening, ramp improvements, and restriping will be utilized to create the proposed number of lanes and reversible managed lanes. The limits and general configuration of the existing IH 30 frontage roads will not be altered, except that one-way collector-distributor roadways between Ballpark Way and Six Flags Drive will be constructed to facilitate access between the IH 30 ramps and the local street network. The proposed project design includes improvements for bicycle and pedestrian facilities, where practicable. The purpose of the proposed project is to help address current and projected travel demands, safety, and existing facility design and operational deficiencies in a manner compatible with local, county and regional plans.

The actions by TxDOT and the Federal agencies, and the laws under which such actions were taken, are described in the final Environmental Assessment (EA) for the project, for which a Finding of No Significant Impact (FONSI) was issued on August 25, 2015, and in other documents in the TxDOT administrative record. The EA, FONSI, and other documents in the administrative record file are available by contacting TxDOT at the address provided above. The EA and FONSI may also be viewed and downloaded from the project Web site at http://txdot.gov/inside-txdot/projects/studies/fort-worth/i-30.html. Information about the project also is available from TxDOT at the address provided above.

This notice applies to all TxDOT decisions and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers), 23 U.S.C. 319.

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990, Protection of Wetlands; E.O. 11988, Floodplain Management; E.O. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species; E.O. 12372, Intergovernmental Review of Federal Programs.

The environmental review, consultation, and other actions required by applicable Federal environmental laws for this project are being, or have been, carried-out by TxDOT pursuant to 23 U.S.C. § 327 and a Memorandum of Understanding dated December 16, 2014, and executed by FHWA and TxDOT.

Authority: 23 U.S.C. 139(l)(1).

Issued on: September 3, 2015.
Michael T. Leary,
Director, Planning and Program Development, Federal Highway Administration.

[FR Doc. 2015-22877 Filed 9-18-15; 8:45 am]

BILLING CODE 4910-22-P